DEPARTMENT OF THE INTERIOR

National Park Service

[NPS-WASO-NAGPRA-NPS0040428; PPWOCRADN0-PCU00RP14.R50000]

Notice of Inventory Completion: Sam Noble Oklahoma Museum of Natural History, University of Oklahoma, Norman, OK

AGENCY: National Park Service, Interior.

ACTION: Notice.

SUMMARY: In accordance with the Native American Graves Protection and Repatriation Act (NAGPRA), the Sam Noble Oklahoma Museum of Natural History (SNOMNH), has completed an inventory of human remains and associated funerary objects and has determined that there is a cultural affiliation between the human remains and associated funerary objects and Indian Tribes or Native Hawaiian organizations in this notice.

DATES: Repatriation of the human remains and associated funerary objects in this notice may occur on or after July 28, 2025.

ADDRESSES: Send written requests for repatriation of the human remains in this notice to Zachary Garrett, NAGPRA Program Coordinator, Sam Noble Oklahoma Museum of Natural History, University of Oklahoma, 2401 Chautauqua Avenue, Norman, OK 73072-7029, email zacgarrett@ou.edu.

SUPPLEMENTARY INFORMATION: This notice is published as part of the National Park Service's administrative responsibilities under NAGPRA. The determinations in this notice are the sole responsibility of SNOMNH, and additional information on the determinations in this notice, including the results of consultation, can be found in its inventory or related records. The National Park Service is not responsible for the determinations in this notice.

Abstract of Information Available

Human remains representing, at least, 216 individuals have been identified. The 258 associated funerary objects are 54 lots of stone projectile points, 51 lots of pottery sherds, eight lots of manos, 53 lots of faunal remains, three lots of faunal beads, 16 lots of stone bifaces, five lots of faunal pins, nine lots of groundstone, four lots of stone axes, four lots of hematite, six lots of worked animal bone, four lots of paintstone, three lots of modified stone, two lots of bone awls, one lot of groundstone ornaments, one lot of metates, five lots of boatstones, one lot of ceramic pipes, four lots of worked shell, two lots of stone celts, four lots of shell beads, one lot of dog burials, two lots of stone hoes, five lots of shell, one lot of stone drills, three lots of unmodified stone, one lot of charred botanical material, one lot of hair pins, one lot of hammerstone, two lots of shell gorgets, and one lot of bear tooth beads.

These individuals and associated funerary objects were removed from 34Lf38, the W.O. Brewer site in LeFlore County, Oklahoma, by members of the Works Progress Administration in 1941. They were then transferred to SNOMNH, where they have remained since. This site was occupied during the Fourche Maline phase (A.D. 300-800). Cultural affiliation between these human remains and associated funerary objects, and the Indian Tribes listed in this notice was established via tribal consultation and archaeological information. To our knowledge, no potentially hazardous substances were used to treat any of the human remains or associated funerary objects.

Cultural Affiliation

Based on the information available and the results of consultation, cultural affiliation is clearly identified by the information available about the human remains and associated funerary objects described in this notice.

Determinations

SNOMNH has determined that:

• The human remains described in this notice represent the physical remains of 216 individuals of Native American ancestry.

• The 258 objects described in this notice are reasonably believed to have been placed intentionally with or near individual human remains at the time of death or later as part of the death rite or ceremony.

• There is a connection between the human remains and associated funerary objects described in this notice and the Caddo Nation of Oklahoma and the Wichita and Affiliated Tribes (Wichita, Keechi, Waco, & Tawakonie), Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 28, 2025. If competing requests for repatriation are received, SNOMNH must determine the most appropriate requestor prior to repatriation. Requests for joint repatriation of the human remains and associated funerary objects are considered a single request and not competing requests. SNOMNH is responsible for sending a copy of this notice to the Indian Tribes and Native Hawaiian organizations identified in this notice and any other consulting parties.

Authority: Native American Graves Protection and Repatriation Act, 25 U.S.C. 3003, and the implementing regulations, 43 CFR 10.10.

Dated: June 17, 2025.
Melanie O'Brien,
Manager, National NAGPRA Program.

[FR Doc. 2025-11929 Filed 6-26-25; 8:45 am]

BILLING CODE 4312-52-P